DEPARTMENT OF AGRICULTURE

Rural Business-Cooperative Service

[Docket #: RBS-21-BUSINESS-0039]

Notice of Application Deadline Extension for the Rural Innovation Stronger Economy (RISE) Grant Program for Fiscal Year 2022

AGENCY: Rural Business-Cooperative Service, USDA.

ACTION: Notice.

SUMMARY: The Rural Business-Cooperative Service (Agency), an agency of the United States Department of Agriculture (USDA), published a Notice of Solicitation of Applications (NOSA) for the Rural Innovation Stronger Economy (RISE) program for fiscal year (FY) 2022, on December 20, 2021. This notice is being issued to extend the application deadline from April 19, 2022, to May 19, 2022, due to a technical issue with the Agency's method for receiving concept proposals. In addition, this notice is requesting that potential applicants that submitted concept proposals on or prior to February 18, 2022, reach out to the Agency if they did not receive a response from the Agency regarding their submittal.

DATES: This Notice is applicable beginning April 15, 2022.

Applicants that submitted a concept proposal by February 18, 2022, but did not receive communication from the Agency must contact the Agency by April 26, 2022.

Completed applications must be submitted electronically by no later than 11:59 p.m. Eastern Time, May 19, 2022, through Grants.gov, to be eligible for grant funding.

FOR FURTHER INFORMATION CONTACT: For general information on this notice and for potential applicants that did not receive communication on their concept proposal submittal, please contact Rachel Reister, Program Management Division, Rural Business-Cooperative Service, United States Department of Agriculture, via phone (503) 414-3393 or email rachel.reister@usda.gov to ensure a timely response.

SUPPLEMENTARY INFORMATION: The Agency published a NOSA in the Federal Register on December 20, 2021 (86 FR 71868), and a corresponding correction on February 14, 2022 (87 FR 8217), to solicit applications for the RISE program for FY 2022. The NOSA afforded potential applicants an opportunity to electronically submit concept proposals for review by the Agency at SM.RISE-RD.RISE@usda.gov no later than February 18, 2022, in accordance with 7 CFR 4284.1115(a). The Agency experienced technical issues with its receiving method as the email inbox referenced above did not allow properly submitted proposals to be accepted through the intake system.

Potential applicants that submitted their concept proposals by the deadline but did not receive communication from the Agency are asked to reach out to Rachel Reister as identified in the FOR FURTHER INFORMATION CONTACT section of this Notice by no later than April 26, 2022, so the Agency can provide feedback on the concept proposals.

Karama Neal,
Administrator, Rural Business-Cooperative Service.

[FR Doc. 2022-08243 Filed 4-13-22; 4:15 pm]

BILLING CODE 3410-XY-P